DEPARTMENT OF AGRICULTURE

National Agricultural Statistics Service

Notice of Intent To Resume the Fruit Chemical Use Survey Along With Its Associated Publication

AGENCY: National Agricultural Statistics Service, USDA.

ACTION: Notice of resumption of data collection and publication.

SUMMARY: This notice announces the intention of the National Agricultural Statistics Service (NASS) to resume a currently approved information collection, the Fruit Chemical Use Survey, and its associated publication.

FOR FURTHER INFORMATION CONTACT: Joseph T. Reilly, Associate Administrator, National Agricultural Statistics Service, U.S. Department of Agriculture, (202) 720-4333.

SUPPLEMENTARY INFORMATION: Title: Agricultural Resource Management (ARMS), Chemical Use, and Post-harvest Chemical Use Surveys. OMB Control Number: 0535-0218.

Expiration Date of Approval: December 31, 2011.

Type of Request: To resume a currently approved information collection.

Abstract: The primary objective of the National Agricultural Statistics Service is to prepare and issue State and national estimates of crop and livestock production, disposition, and prices. The Fruit Chemical Use Survey collects data regarding chemical usage (herbicides, insecticides, and fungicides) and pest management practices used on targeted fruit crop(s). Information from these data collection efforts is used extensively by government agencies in planning, farm policy analysis, scientific research, and program administration. This collection was suspended on April 4, 2007 due to budget constraints. NASS will resume this information collection and will publish the Agricultural Chemical Usage 2009 Fruit Summary on July 28, 2010.

Authority: These data are collected under authority of 7 U.S.C. 2204(a). Individually identifiable data collected under this authority are governed by section 1770 of the Food Security Act of 1985, 7 U.S.C. 2276, which requires USDA to afford strict confidentiality to non-aggregated data provided by respondents.

Signed at Washington, DC, March 17, 2009.
Joseph T. Reilly,
Associate Administrator.

[FR Doc. E9-11634 Filed 5-18-09; 8:45 am]

BILLING CODE 3410-20-P